FEDERAL COMMUNICATIONS COMMISSION

47 CFR Part 73

Radio Broadcasting Services; Clarendon, TX

CFR Correction

In Title 47 of the Code of Federal Regulations, Parts 70 to 79, revised as of October 1, 2002, in § 73.202(b), on page 108, the Table of FM Allotments is amended under Texas by adding Clarendon, Channel 257C2.

[FR Doc. 03-55507 Filed 3-4-03; 8:45 am]

BILLING CODE 1505-01-D